DEPARTMENT OF HOMELAND SECURITY

Federal Emergency Management Agency

[Docket ID FEMA-2019-0002; Internal Agency Docket No. FEMA-B-1910]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 17, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1910, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Clayton County, Iowa and Incorporated Areas
Project: 16-07-2169S Preliminary Date: July 23, 2018
City of Clayton | City Hall, 302 Main Street, Clayton, IA 52049.
City of Edgewood | City Hall, 203 West Union Street, Edgewood, IA 52042.
City of Elkader | City Hall, 207 North Main Street, Elkader, IA 52043.
City of Elkport | City Hall, 453 Linn Street, Elkport, IA 52044.
City of Farmersburg | City Hall, 208 South Main Street, Farmersburg, IA 52047.
City of Garber | City Hall, 604 Hill Street, Garber, IA 52048.
City of Garnavillo | City Hall, 104 North Main Street, Garnavillo, IA 52049.
City of Guttenberg | City Hall, 502 South 1st Street, Guttenberg, IA 52052.
City of Luana | City Hall, 304 Main Street, Luana, IA 52156.
City of Marquette | City Hall, 102 North Street, Marquette, IA 52158.
City of McGregor | City Hall, 416 Main Street, McGregor, IA 52157.
City of Monona | City Hall, 104 East Center Street, Monona, IA 52159.
City of North Buena Vista | City Hall, 502 Walnut Street, North Buena Vista, IA 52066.
City of Osterdock | Osterdock City Hall, 3181 Lynx Avenue, Colesburg, IA 52035.
City of St. Olaf | City Hall, 109 South Main Street, St. Olaf, IA 52072.
City of Strawberry Point | City Hall, 111 Commercial Street, Strawberry Point, IA 52076.
City of Volga | City Hall, 505 Washington Street, Volga, IA 52077.
Unincorporated Areas of Clayton County | Clayton County Courthouse, 111 High Street Northeast, Elkader, IA 52043.
Des Moines County, Iowa and Incorporated Areas
Project: 16-07-2202S Preliminary Date: August 27, 2018
City of Burlington | Development Department, 400 Washington Street, Burlington, IA 52601.
City of Danville | City Hall, 105 West Shepherd Street, Danville, IA 52623.
City of Mediapolis | City Hall, 510 Main Street, Mediapolis, IA 52637.
City of West Burlington | City Hall, 122 Broadway Street, West Burlington, IA 52655.
Unincorporated Areas of Des Moines County | Southeast Iowa Regional Planning Commission, 211 North Gear Avenue, Suite 100, West Burlington, IA 52655.
Dubuque County, Iowa and Incorporated Areas
Project: 16-07-2220S Preliminary Date: August 27, 2018
City of Asbury | City Hall, 5290 Asbury Road, Asbury, IA 52002.
City of Cascade | City Hall, 320 1st Avenue West, Cascade, IA 52033.
City of Dubuque | City Hall, 50 West 13th Street, Dubuque, IA 52001.
City of Durango | City Hall, 833 U.S. Highway 52 North, Durango, IA 52039.
City of Dyersville | City Hall, 340 1st Avenue East, Dyersville, IA 52040.
City of Epworth | City Hall, 191 Jacoby Drive East, Epworth, IA 52045.
City of Graf | City Hall, 617 Graf Road, Graf, IA 52039.
City of Luxemburg | City Hall, 202 South Andres Street, Luxemburg, IA 52056.
City of New Vienna | City Hall, 7271 Columbus Street, New Vienna, IA 52065.
City of Peosta | City Hall, 7896 Burds Road, Peosta, IA 52068.
City of Rickardsville | City Hall, 20494 St. Joseph's Drive, Rickardsville, IA 52039.
City of Sageville | City Hall, 11439 Robinhood Drive, Sageville, IA 52001.
City of Worthington | City Hall, 216 1st Avenue West, Worthington, IA 52078.
City of Zwingle | City Hall, 80 Walnut Street, Zwingle, IA 52079.
Unincorporated Areas of Dubuque County | Dubuque County Courthouse, 720 Central Avenue, Dubuque, IA 52001.
Fayette County, Iowa and Incorporated Areas
Project: 16-07-2234S Preliminary Date: April 30, 2018
City of Arlington | City Clerk's Office, 755 Main Street, Arlington, IA 50606.
City of Clermont | City Hall, 505 Larrabee Street, Clermont, IA 52135.
City of Elgin | City Hall, 212 Main Street, Elgin, IA 52141.
City of Fayette | City Hall, 11 South Main Street, Fayette, IA 52142.
City of Hawkeye | Public Library, 104 South 2nd Street, Hawkeye, IA 52147.
City of Maynard | City Clerk's Office, 135 3rd Street Southwest, Maynard, IA 50655.
City of Oelwein | City Hall, 20 2nd Avenue Southwest, Oelwein, IA 50662.
City of Randalia | City Hall, 107 North 2nd Street, Randalia, IA 52164.
City of St. Lucas | City Hall, 101 West Main Street, St. Lucas, IA 52166.
City of Wadena | City Hall, 136 A South Mill Street, Wadena, IA 52169.
City of Waucoma | City Office, 113 1st Avenue Southwest, Waucoma, IA 52171.
City of Westgate | City Clerk's Office, 104 Cass Street, Westgate, IA 50681.
City of West Union | City Hall, 612 Highway 150 South, West Union, IA 52175.
Unincorporated Areas of Fayette County | Fayette County Courthouse, 144 North Vine Street, West Union, IA 52175.
Lee County, Iowa and Incorporated Areas
Project: 16-07-2318S Preliminary Date: August 27, 2018
City of Fort Madison | City Hall, 811 Avenue East, Fort Madison, IA 52627.
City of Houghton | City Hall, 406 2nd Street, Houghton, IA 52631.
City of Keokuk | City Hall, 415 Blondeau Street, Keokuk, IA 52632.
City of Montrose | City Hall, 102 South 2nd Street, Montrose, IA 52639.
Unincorporated Areas of Lee County | Keokuk City Hall, 415 Blondeau Street, Keokuk, IA 52632.
Grundy County, Missouri and Incorporated Areas
Project: 17-07-0145S Preliminary Date: February 23, 2018
City of Trenton | City Hall, 1100 Main Street, Trenton, MO 64683.
Vernon County, Missouri and Incorporated Areas
Project: 17-07-0170S Preliminary Date: May 25, 2018
Unincorporated Areas of Vernon County | Vernon County Courthouse, 100 West Cherry Street, Suite 6, Nevada, MO 64772.
Thurston County, Washington and Incorporated Areas
Project: 13-10-0367S Preliminary Date: June 29, 2018
City of Tenino | City Hall, 149 Hodgden Street South, Tenino, WA 98589.
Town of Bucoda | Bucoda Community Center, 101A East 7th Street, Bucoda, WA 98530.
Unincorporated Areas of Thurston County | Thurston County Courthouse, 2000 Lakeridge Drive Southwest, Building One, Olympia, WA 98502.
Yakima County, Washington and Incorporated Areas
Project: 16-10-0662S Preliminary Date: September 28, 2018
City of Selah | City Hall, 115 West Naches Avenue, Selah, WA 98942.
City of Tieton | City Hall, 418 Maple Street, Tieton, WA 98947.
City of Yakima | City Hall, 129 North 2nd Street, Yakima, WA 98901.
Unincorporated Areas of Yakima County | Yakima County Public Services, 128 North 2nd Street, Yakima, WA 98901.

[FR Doc. 2019-04956 Filed 3-15-19; 8:45 am]

BILLING CODE 9110-12-P